DEPARTMENT OF COMMERCE

National Oceanic and Atmospheric Administration

Extension of Application Period for Seats for the Stellwagen Bank National Marine Sanctuary Advisory Council

AGENCY: Office of National Marine Sanctuaries (ONMS), National Ocean Service (NOS), National Oceanic and Atmospheric Administration (NOAA), Department of Commerce (DOC).

ACTION: Notice of extension for application period and request for applications.

SUMMARY: The ONMS is extending the deadline and seeking applications for the following vacant seats on the Stellwagen Bank National Marine Sanctuary Advisory Council: Advisory Council: For member and alternate seats for Conservation; and alternates seats for Whalewatching, Education, At-Large and Mobile Gear Commercial Fishing. Applicants are chosen based upon their particular expertise and experience in relation to the seat for which they are applying; community and professional affiliations; philosophy regarding the protection and management of marine resources; and possibly the length of residence in the area affected by the sanctuary. Applicants who are chosen as members should expect to serve two-to three-year terms, pursuant to the council's Charter.

DATES: Applications are due by 19 November 2010 (COB: close of business day).

ADDRESSES: Application kits may be obtained at http://www.stellwagen.noaa.gov/sac/news.html. Completed applications should be sent to Elizasbeth.Stokes@noaa.gov or faxed to 781-545-8036.

FOR FURTHER INFORMATION CONTACT: Nathalie Ward, Stellwagen Bank National Marine Sanctuary, 175 Edward Foster Road, Scituate, MA 02066, 781-545-8026 X206, nathalie.ward@noaa.gov.

SUPPLEMENTARY INFORMATION: The Stellwagen Bank National Marine Sanctuary Advisory Council was established in March 2001 to assure continued public participation in the management of the Sanctuary. The Advisory Council's 17 voting members represent a variety of local user groups, as well as the general public, plus 6 local, State and Federal government agencies. Since its establishment, the Council has played a vital role in advising the Sanctuary and NOAA on critical issues.

The Stellwagen Bank National Marine Sanctuary encompasses 842 square miles of ocean, stretching between Cape Ann and Cape Cod. Renowned for its scenic beauty and remarkable productivity, the sanctuary supports a rich diversity of marine life including 22 species of marine mammals, more than 30 species of seabirds, over 60 species of fishes, and hundreds of marine invertebrates and plants.

Authority: 16 U.S.C. 1431, et seq.

(Federal Domestic Assistance Catalog Number 11.429 Marine Sanctuary Program)

Dated: October 14, 2010.
Daniel J. Basta,
Director, Office of National Marine Sanctuaries, National Ocean Service, National Oceanic and Atmospheric Administration.

[FR Doc. 2010-27089 Filed 10-26-10; 8:45 am]

BILLING CODE 3510-NK-M